DEPARTMENT OF COMMERCE

International Trade Administration

[A-570-878]

Saccharin From the People's Republic of China: Final Results of the 2008-2009 Antidumping Duty Administrative Review

AGENCY: Import Administration, International Trade Administration, Department of Commerce.

SUMMARY: On March 22, 2010, the Department of Commerce (“Department”) published its Preliminary Results for the July 1, 2008, through June 30, 2009, administrative review of saccharin from the People's Republic of China (“PRC”).¹ We invited interested parties to comment on our Preliminary Results, but no parties submitted comments. Therefore, the Preliminary Results are hereby adopted as the final results.

¹ See Saccharin From the People's Republic of China: Preliminary Results of the 2008-2009 Antidumping Duty Administrative Review, 75 FR 13495 (March 22, 2010) (“Preliminary Results”).

DATES: Effective Date: July 23, 2010.

FOR FURTHER INFORMATION CONTACT: Brandon Petelin or Charles Riggle, AD/CVD Operations, Office 8, Import Administration, International Trade Administration, U.S. Department of Commerce, 14th Street and Constitution Avenue, NW., Washington, DC 20230; telephone: (202) 482-8173 and (202) 482-0650, respectively.

SUPPLEMENTARY INFORMATION:

Background

On March 22, 2010, the Department published its Preliminary Results of the review of the antidumping order on saccharin from the PRC covering the period July 1, 2008, through June 30, 2009. For the Preliminary Results, because Kaifeng Xinhua Fine Chemical Factory (“Kaifeng”) did not respond to the Department's questionnaire, we were unable to determine if Kaifeng was eligible for a separate rate.² Further, in accordance with sections 776(a)(2)(A) and (B) of the Tariff Act of 1930, as amended (“Act”), because the PRC-entity (including Kaifeng) failed to cooperate to the best of its ability by not responding to our questionnaire, we found it appropriate to use adverse facts available.³ Thus, the Department preliminarily determined that Kaifeng did not qualify for a separate rate and instead was part of the PRC entity.⁴ No parties commented on the Preliminary Results.

² On October 14, 2009, the Department confirmed that Kaifeng signed for and received our mailing of the antidumping duty questionnaire. On January 6, 2009, the Department placed the FedEx International Air Waybill receipt and delivery confirmation for the questionnaire issued to Kaifeng on the record of this administrative review to confirm that we mailed, and Kaifeng signed for and received, the questionnaire.

³ See Preliminary Results.

⁴ See id.

Scope of the Order

The product covered by this antidumping duty order is saccharin. Saccharin is defined as a non-nutritive sweetener used in beverages and foods, personal care products such as toothpaste, table top sweeteners, and animal feeds. It is also used in metalworking fluids. There are four primary chemical compositions of saccharin: (1) Sodium saccharin (American Chemical Society Chemical Abstract Service (“CAS”) Registry 128-44-9); (2) calcium saccharin (CAS Registry 6485-34-3); (3) acid (or insoluble) saccharin (CAS Registry 81-07-2); and (4) research grade saccharin. Most of the U.S.-produced and imported grades of saccharin from the PRC are sodium and calcium saccharin, which are available in granular, powder, spray-dried powder, and liquid forms. The merchandise subject to this order is currently classifiable under subheading 2925.11.00 of the Harmonized Tariff Schedule of the United States (“HTSUS”) and includes all types of saccharin imported under this HTSUS subheading, including research and specialized grades. Although the HTSUS subheading is provided for convenience and customs purposes, the Department's written description of the scope of this order remains dispositive.

Analysis of Comments Received

Because no parties commented on the Preliminary Results, we have adopted the Preliminary Results as the final results, including the margin determined therein.⁵

⁵ See id.

Final Results of Review

We find that the following weighted-average dumping margin exists for the period July 1, 2008, through June 30, 2009:

Manufacturer/Exporter | Margin (Percent)
PRC-wide Entity* | 329.94 ⁶
* The PRC-entity includes Kaifeng Xinhua Fine Chemical Factory.
⁶ See Notice of Final Determination of Sales at Less Than Fair Value: Saccharin From the People's Republic of China, 68 FR 27530 (May 30, 2003) (“LTFV Final Determination”); as amended by Notice of Amended Final Determination of Sales at Less Than Fair Value, 68 FR 35383 (June 13, 2003) (“The PRC-wide rate of 329.94 percent * * * is the correct PRC-wide rate, rather than the rate of 329.33 percent published in the LTFV Final Determination.”); see also Notice of Antidumping Duty Order: Saccharin From the People's Republic of China, 68 FR 40906 (July 9, 2003) (establishing 329.94 percent as the PRC-wide rate).

Assessment Rates

The Department has determined, and U.S. Customs and Border Protection (“CBP”) shall assess antidumping duties on all appropriate entries covered by this review. The Department intends to issue assessment instructions to CBP 15 days after the publication date of the final results of this review.

Cash Deposit Requirements

The following deposit requirements will be effective upon publication of this notice of final results of administrative review for all shipments of subject merchandise entered, or withdrawn from warehouse, for consumption on or after the date of publication, as provided by section 751(a)(2)(C) of the Act: (1) For the PRC-wide entity (which includes Kaifeng), the cash deposit rate will be 329.94 percent; (2) for previously investigated or reviewed PRC and non-PRC exporters not listed above that have separate rates, the cash deposit rate will continue to be the exporter-specific rate published for the most recent period; (3) for all PRC exporters of subject merchandise that have not been found to be entitled to a separate rate, the cash deposit rate will be the PRC-wide rate of 329.94 percent; and (4) for all non-PRC exporters of subject merchandise which have not received their own rate, the cash deposit rate will be the rate applicable to the PRC exporters that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice of the final results of this administrative review is issued and published in accordance with sections 751(a)(1) and 777(i)(1) of the Act.

Dated: July 19, 2010.
Ronald K. Lorentzen,
Deputy Assistant Secretary for Import Administration.

[FR Doc. 2010-18103 Filed 7-22-10; 8:45 am]

BILLING CODE 3510-DS-P